FEDERAL RETIREMENT THRIFT INVESTMENT

Board Member Meeting

77 K Street NE, 10th Floor, Washington, DC 20002

October 28, 2019, 8:30 a.m., In-Person

Open Session

1. Approval of the September 16, 2019 Board Meeting Minutes

2. Investment Benchmark Update

3. Monthly Reports

(a) Participant Activity Report

(b) Legislative Report

4. Quarterly Reports

(c) Investment Policy

(d) Budget Review

(e) Audit Status

5. Office of Enterprise Planning Annual Report

6. Update on Implementation of Additional Withdrawal Options

Closed Session

Information covered under 5 U.S.C. 552b (c)(6) and (c)(9)(B).

CONTACT PERSON FOR MORE INFORMATION: Kimberly Weaver, Director, Office of External Affairs, (202) 942-1640.

Dated: October 18, 2019.
Megan Grumbine,
General Counsel, Federal Retirement Thrift Investment Board.

[FR Doc. 2019-23108 Filed 10-22-19; 8:45 am]

BILLING CODE 6760-01-P